NATIONAL SCIENCE FOUNDATION

Sunshine Act Meetings; National Science Board

The National Science Board's Election Committee, pursuant to NSF regulations (45 CFR Part 614), the National Science Foundation Act, as amended (42 U.S.C. 1862n-5), and the Government in the Sunshine Act (5 U.S.C. 552b), hereby gives notice of the scheduling of a teleconference for the transaction of National Science Board business, as follows:

DATE & TIME: Friday, April 18, 2014, 3:00 p.m.—4:00 p.m. EDT.

SUBJECT MATTER: Chairman's remarks; discussion of nominations for NSB Chairman and Vice Chairman for the 2104—2016 term.

STATUS: Closed

This meeting will be held by teleconference. Please refer to the National Science Board Web site www.nsf.gov/nsb for additional information and schedule updates (time, place, subject matter or status of meeting). Point of contact for this meeting is Ann Bushmiller (abushmil@nsf.gov).

Ann Bushmiller,
Senior Counsel to the National Science Board.

[FR Doc. 2014-08411 Filed 4-10-14; 11:15 am]

BILLING CODE 7555-01-P